DEPARTMENT OF HEALTH AND HUMAN SERVICES

Administration for Children and Families

AGENCY: Administration for Native Americans, ACF, HHS.

ACTION: Notice of public comment on the Tribal Consultation Session to be held on December 6, 2005.

SUMMARY: The Administration for Children and Families (ACF) will be holding a one-day Tribal Consultation Session on December 6, 2005, at the Wyndham Hotel (California Grand Ball Room) in Palm Springs, California.

DATES: December 6, 2005.

FOR FURTHER INFORMATION CONTACT: LeeAnna Arrowchis, Administration for Native Americans (ANA) toll-free at 1-877-922-9262, or register online at http://www.acf.hhs.gov/programs/ana.

SUPPLEMENTARY INFORMATION: ACF would like to invite Tribal leaders to participate in a formal Consultation Session with ACF senior officials and program directors. The Consultation Session will take place Tuesday, December 6, 2005, from 9 a.m. to 4 p.m. in the Wyndham Hotel. This event precedes the ACF National Native American Conference to be held December 7-9, 2005, at the Palm Springs Convention Center.

The intent of this Consultation Session is for ACF officials to hear firsthand from Tribal leaders and representatives from Tribal organizations and Native non-profits about the implementation of ACF programs in Native communities. Of particular interest are the challenges that Tribes and Tribal organizations face in accessing ACF program funding and using programmatic funding to support social and economic development activities in Native American communities. ACF offices such as the Administration for Native Americans, Office of Child Support Enforcement, Office of Community Services, Office of Family Assistance, Child Care Bureau, Children's Bureau, Head Start Bureau and the Family and Youth Services Bureau will be represented.

Tribal leaders and representatives interested in submitting written testimony or topics for the Consultation Session agenda should contact LeeAnna Arrowchis at the Administration for Native Americans toll-free at 1-877-922-9262.

If you are proposing a topic to be addressed in the Consultation Session, please be sure to include a brief description of the topic area along with the name and contact information of the suggested presenter.

The public record will remain open for 60 days following the December 6, 2005, Consultation. Written comment and testimony can be submitted until February 6, 2006.

Dated: October 24, 2005.
Kim Romine,
Deputy Commissioner, Administration for Native Americans.

[FR Doc. 05-21523 Filed 10-27-05; 8:45 am]

BILLING CODE 4184-01-P